DEPARTMENT OF HOUSING AND URBAN DEVELOPMENT

[Docket No. FR-5452-N-02]

Additional Allocations and Waivers Granted to and Alternative Requirements for 2010 Community Development Block Grant (CDBG) Disaster Recovery Grantees

AGENCY: Office of the Assistant Secretary for Community Planning and Development.

ACTION: Notice of allocations, waivers, and alternative requirements.

SUMMARY: This Notice advises the public of the second allocation of grant funds for CDBG disaster recovery grants for the purpose of assisting the recovery in areas covered by a declaration of major disaster under title IV of the Robert T. Stafford Disaster Relief and Emergency Assistance Act (42 U.S.C. 5121 et seq.). As described in this Notice, HUD is authorized by statute and regulations to waive statutory and regulatory requirements and specify alternative requirements for this purpose upon the request of the grantees. This Notice describes applicable waivers and alternative requirements, as well as the application process, eligibility requirements, and relevant statutory and regulatory provisions for grants provided under this Notice.

DATES: Effective Date: April 19, 2011.

FOR FURTHER INFORMATION CONTACT: Scott Davis, Director, Disaster Recovery and Special Issues Division, Office of Block Grant Assistance, Department of Housing and Urban Development, 451 7th Street, SW., Room 7286, Washington, DC 20410, telephone number 202-708-3587. Persons with hearing or speech impairments may access this number via TTY by calling the Federal Information Relay Service at 800-877-8339. Facsimile inquiries may be sent to Mr. Davis at 202-401-2044. (Except for the “800” number, these telephone numbers are not toll-free.)

SUPPLEMENTARY INFORMATION:

Allocations

The Supplemental Appropriations Act, 2010 (Pub. L. 111-212, approved July 29, 2010) (hereinafter, “Supplemental Appropriations Act”) appropriates $100 million, to remain available until expended, in CDBG funds for necessary expenses related to disaster relief, long-term recovery, and restoration of infrastructure, housing, and economic revitalization in areas affected by severe storms and flooding from March 2010 through May 2010 for which the President declared a major disaster covering an entire State, or States with more than 20 counties declared major disasters, under title IV of the Robert T. Stafford Disaster Relief and Emergency Assistance Act of 1974 (42 U.S.C. 5121 et seq.). The Supplemental Appropriations Act further notes:

That funds shall be awarded directly to the State or unit of general local government at the discretion of the Secretary * * * Provided further, that funds allocated under this heading shall not adversely affect the amount of any formula assistance received by a State or subdivision thereof under the Community Development Fund: Provided further, that a State or subdivision thereof may use up to 5 percent of its allocation for administrative costs * * *

In a Federal Register Notice published November 10, 2010 (75 FR 69097), the Department allocated $50 million to three states and five units of general local government. Today's Notice allocates the remaining $50 million to the State of Tennessee and three of its local governments:

Table 1—Total Allocations Under Public Law 111-212
State | Grantee | Initial allocation | This allocation | Total allocation
Kentucky | State Government | $13,000,000 | 0 | $13,000,000
Rhode Island | City of Cranston | 1,277,067 | 0 | 1,277,067
Rhode Island | City of Warwick | 2,787,697 | 0 | 2,787,697
Rhode Island | State Government | 8,935,237 | 0 | 8,935,237
Tennessee | City of Memphis | 2,031,645 | 4,232,594 | 6,264,239
Tennessee | Nashville-Davidson County | 10,731,831 | 22,357,982 | 33,089,813
Tennessee | Shelby County | 1,212,788 | 2,526,642 | 3,739,430
Tennessee | State Government | 10,023,735 | 20,882,782 | 30,906,517
Total |  |  |  | 100,000,000

HUD computed the allocations in Table 1 based on data that are generally available and that cover all of the eligible affected areas. Second round allocations were made only to the State of Tennessee and its local communities based on the State representing over 75 percent of the estimated unmet needs for all eligible areas. For a more detailed description of the allocation methodology, please see Appendix A.

Use of Funds

The Supplemental Appropriations Act requires funds to be used only for specific purposes. The statute directs that each grantee will describe, in an Action Plan for Disaster Recovery, criteria for eligibility and how the use of the grant funds will address long-term recovery, and restoration of infrastructure, housing, and economic revitalization. HUD monitors compliance with this directive and may disallow expenditures if it finds that funds duplicate other benefits or expenditures that do not meet a statutory purpose. HUD encourages grantees to contact their assigned HUD offices for guidance in complying with these requirements during development and implementation of their Action Plans for Disaster Recovery. HUD field offices are available at http://www.hud.gov/offices/cpd/about/staff/fodirectors/.

As provided for in the Supplemental Appropriations Act, funds may be used as a matching requirement, share, or contribution for any other Federal program. However, the funds may not be used for activities reimbursable by, or for which funds are made available by, the Federal Emergency Management Agency (FEMA) or the Army Corps of Engineers. In other words, the CDBG disaster recovery funds may not supplant funds provided by FEMA or the Army Corps of Engineers.

Prevention of Fraud, Abuse, and Duplication of Benefits

To prevent fraud, abuse of funds, and duplication of benefits, HUD's November 10, 2010 Federal Register Notice (75 FR 69097), includes specific reporting, written procedures, monitoring, and internal audit requirements applicable to each grantee. Please see the duplication of benefits note at paragraph 27 within the section “Applicable Rules, Statutes, Waivers, and Alternative Requirements; Pre-Grant Process” (75 FR 69108), and paragraph 5, sections C-D, within the same section (75 FR 69103).

In addition, the Department will: (1) Institute risk analysis and on-site monitoring of grantee management of the grants and of the specific uses of funds, (2) be extremely cautious in considering any waiver related to basic financial management requirements; the standard, time-tested CDBG financial requirements will continue to apply, and (3) collaborate with the HUD Office of Inspector General to plan and implement oversight of these funds.

Authority To Grant Waivers

The Supplemental Appropriations Act authorizes the Secretary to waive, or specify alternative requirements for any provision of any statute or regulation that the Secretary administers in connection with the obligation by the Secretary, or use by the recipient, of these funds and guarantees, except for requirements related to fair housing, nondiscrimination and equal opportunity, labor standards, and the environment (including requirements concerning lead-based paint), upon: (1) A request by the grantee explaining why such a waiver is required to facilitate the use of such funds or guarantees, and (2) a finding by the Secretary that such a waiver would not be inconsistent with the overall purpose of Title I of the Housing and Community Development Act of 1974 (HCD Act). Regulatory waiver authority is also provided by 24 CFR 5.110, 91.600, and 570.5.

The Secretary finds that the waivers, alternative requirements, and statutory changes previously described in the November 10, 2010 Federal Register Notice (75 FR 69097), will apply without exception, to the funds allocated under today's Notice as they are necessary to facilitate the use of these funds for the statutory purposes, and are not inconsistent with the overall purpose of Title I of the HCD Act or the Cranston-Gonzalez National Affordable Housing Act, as amended. Under the requirements of the Supplemental Appropriations Act and the Department of Housing and Urban Development Reform Act of 1989 (the HUD Reform Act), regulatory waivers must be justified and published in the Federal Register. Note that the waivers, alternative requirements, and statutory changes will not apply to funds provided under the regular CDBG program.

Application Process, Eligibility, and Relevant Statutory and Regulatory Provisions

The waivers and alternative requirements described in the November 10, 2010 Federal Register Notice (75 FR 69097) described the application requirements and eligible uses of funds under the Supplemental Appropriations Act, including the required Action Plan for Disaster Recovery. Each grantee receiving an allocation under today's Notice, which has not submitted an Action Plan for Disaster Recovery by the date of this Notice, is required to submit a Plan to program its total allocation by June 13, 2011. Each grantee receiving an allocation under today's Notice, which has submitted an Action Plan for Disaster Recovery by the date of this Notice, is required to submit an Action Plan Amendment to program its additional allocation by June 13, 2011. If any grantee fails to meet these requirements, HUD, on the first business day after the deadline, will commence an action to recapture any funds not programmed. Grantees must prepare the Action Plan in accordance with the application process described in the November 10, 2010 Federal Register Notice (75 FR 69097).

Unless noted otherwise, the term “grantee” refers to any grantee—whether State, city, or county—receiving a direct award under this Notice.

Applicable Rules, Statutes, Waivers, and Alternative Requirements

Unless stated otherwise, the following waivers and alternative requirements apply to any State or unit of general local government receiving a direct award under this Notice.

1. General note. Except as described in this Notice, statutory and regulatory provisions governing the State CDBG program shall apply to any State receiving an allocation under this Notice, while statutory and regulatory provisions governing the CDBG entitlement program shall apply to any unit of general local government receiving a direct allocation in this Notice. Applicable statutory provisions can be found at 42 U.S.C. 5301 et seq. Applicable State and entitlement provisions can be found at 24 CFR part 570.

2. Prerequisites to a grantee's receipt of CDBG disaster recovery funds under this Notice. Prior to receiving funds under this Notice, each grantee that has not submitted an Action Plan for Disaster Recovery must: (1) Adopt a citizen participation plan, (2) publicize a proposed Action Plan, (3) provide public notice and allow for comment, and (4) submit to HUD an Action Plan for Disaster Recovery, including certifications, programming the grantee's entire allocation by June 13, 2011. Upon acceptance by HUD of the Action Plan, a grant agreement will be executed and the funds will be accessible.

Grantees that have already submitted an Action Plan for Disaster Recovery to HUD must: (1) Publicize a proposed Action Plan Amendment, (2) provide public notice and allow for comment, and (3) submit to HUD an Action Plan Amendment programming the grantee's additional allocation by June 13, 2011. Upon acceptance by HUD of the Action Plan Amendment, a revised grant agreement will be executed and the additional funds can be accessed.

If any grantee fails to meet the requirement to program its entire allocation within the relevant timelines, HUD, on the first business day after that deadline, will commence an action to recapture the funds.

3. Incorporation of waivers, alternative requirements, and statutory changes previously described. The waivers and alternative requirements provided in the November 10, 2010 Federal Register Notice (75 FR 69097) apply to each grantee receiving an allocation of funds under this Notice.

Duration of Funding

Availability of funds provisions in 31 U.S.C. 1551-1557, added by section 1405 of the National Defense Authorization Act for Fiscal Year 1991 (Pub. L. 101-510), limit the availability of certain appropriations for expenditure. This limitation may not be waived. However, the Supplemental Appropriations Act for these grants directs that these funds be available until expended unless, in accordance with 31 U.S.C. 1555, HUD determines that the purposes for which the appropriation has been made have been carried out and no disbursement has been made against the appropriation for two consecutive fiscal years. In such a case, HUD shall close out the grant prior to expenditure of all funds.

Catalog of Federal Domestic Assistance

The Catalog of Federal Domestic Assistance numbers for the disaster recovery grants under this Notice are as follows: 14.218; 14.228.

Finding of No Significant Impact

A Finding of No Significant Impact (FONSI) with respect to the environment has been made in accordance with HUD regulations at 24 CFR part 50, which implement section 102(2)(C) of the National Environmental Policy Act of 1969 (42 U.S.C. 4332). The FONSI is available for public inspection between 8 a.m. and 5 p.m. weekdays in the Regulations Division, Office of General Counsel, Department of Housing and Urban Development, Room 10276, 451 7th Street, SW., Washington, DC 20410-0500. Due to security measures at the HUD Headquarters building, an advance appointment to review the docket file must be scheduled by calling the Regulations Division at 202-708-3055 (this is not a toll-free number). Hearing or speech-impaired individuals may access this number through TTY by calling the toll-free Federal Information Relay Service at 800-877-8339.

Appendix A—Allocation Methodology Detail

On November 10, 2010, HUD announced an allocation of $50 million to states and local governments in Tennessee, Kentucky, and Rhode Island to address unmet disaster recovery needs relating to the severe storms and flooding that occurred in the spring of 2010. In its press release, the Department stated the following:

Today's announcement is meant to comply with Congress' directive that one-half of the $100 million appropriated in July for disaster recovery be obligated within 90 days. HUD will provide grantees with guidance on preparing plans and applying for their allocations. Further, HUD will continue to review long-term recovery needs to determine how to allocate the remaining $50 million in aid. The agency's review will include unmet housing, infrastructure and economic revitalization needs.

HUD's methodology for estimating unmet needs and making allocations is fully stated in Appendix A of the November 10, 2010 Federal Register Notice (75 FR 69097). But to briefly recap, Tennessee represents over 75 percent of the need among the four eligible states:

Table 1—Preliminary Estimates of Unmet Needs
State | Housing | Infrastructure | Business | Total
Tennessee | $363,412,407 | $64,907,061 | $108,349,875 | $536,669,343
Rhode Island | 54,111,522 | 3,290,878 | 23,910,814 | 81,313,214
Kentucky | 60,379,939 | 3,540,307 | 10,899,431 | 74,819,677
Nebraska | 0 | 1,186,985 | 0 | 1,186,985
Total | 477,903,868 | 72,925,231 | 143,160,120 | 693,989,220

The State of Nebraska did not receive an allocation because a proportional allocation provides less than one million in funding and needs did not extend beyond that which the State could address on its own.

As noted in the SUPPLEMENTARY INFORMATION section of this Notice, the initial allocation provided both Kentucky and Rhode Island with $13 million for each state and its respective communities. Thus, they have already received an allocation in proportion to their need. As such, the remaining funds are distributed to the State of Tennessee and its local governments.

Dated April 8, 2011.
Mercedes M. Márquez,
Assistant Secretary Community Planning and Development.

[FR Doc. 2011-9118 Filed 4-13-11; 8:45 am]

BILLING CODE 4210-67-P